Proclamation 8872 of September 28, 2012

Gold Star Mother's and Family's Day, 2012

By the President of the United States of America

A Proclamation

From the revolution that gave life to our Republic to the trials of our times, our men and women in uniform have put themselves in harm's way to defend the people they love and the land they cherish. Their actions attest not only to the depth of their sacrifice, but also to a belief in their country so profound they were willing to give their lives for it. Today, we pay solemn tribute to all who did. Sons and daughters, fathers and mothers, husbands and wives, they were all patriots—and with a devotion to duty that goes without equal, these proud Americans gave of themselves until they had nothing more to give.

As a grateful Nation honors our fallen service members, so do we honor the families who keep their memory burning bright. They are parents who face the loss of a child, spouses who carry an emptiness that cannot be filled, children who know sorrow that defies comprehension. The grief they hold in their hearts is a grief most cannot fully know. But as fellow Americans, we must lend our strength to those families who have given so much for our country. Their burdens are ones that no one should have to bear alone, and it is up to all of us to live our lives in a way worthy of their sacrifice.

On this day of remembrance, let us rededicate ourselves to upholding the sacred trust we share with our Gold Star families and the heroes we have laid to rest. Let us always remember that the blessings we enjoy as free people in a free society came at a dear cost. Let us hold the memories of our fallen close to our hearts, and let us mark each day by heeding the example they set. Finally, let us forever keep faith with our men and women in uniform, our veterans, and our military families by serving them as well as they have served us. Our Union endures because of their courage and selflessness, and today, we resolve anew to show them the care and support they so deeply deserve.

The Congress, by Senate Joint Resolution 115 of June 23, 1936 (49 Stat. 1985 as amended), has designated the last Sunday in September as “Gold Star Mother's Day.”

NOW, THEREFORE, I, BARACK OBAMA, President of the United States of America, by virtue of the authority vested in me by the Constitution and the laws of the United States, do hereby proclaim September 30, 2012, as Gold Star Mother's and Family's Day. I call upon all Government officials to display the flag of the United States over Government buildings on this special day. I also encourage the American people to display the flag and hold appropriate ceremonies as a public expression of our Nation's sympathy and respect for our Gold Star Mothers and Families.

IN WITNESS WHEREOF, I have hereunto set my hand this twenty-eighth day of September, in the year of our Lord two thousand twelve, and of the Independence of the United States of America the two hundred and thirty-seventh.

[FR Doc. 2012-24532

Filed 10-2-12; 8:45 am]

Billing code 3295-F3